DEPARTMENT OF ENERGY

Federal Energy Regulatory Commission

Combined Notice of Filings #1

Take notice that the Commission received the following electric corporate filings:

Docket Numbers: EC22-23-000.

Applicants: Innovative Solar 42, LLC.

Description: Application for Authorization Under Section 203 of the Federal Power Act of Innovative Solar 42, LLC.

Filed Date: 11/24/21.

Accession Number: 20211124-5195.

Comment Date: 5 p.m. ET 12/15/21.

Take notice that the Commission received the following Complaints and Compliance filings in EL Dockets:

Docket Numbers: EL22-16-000.

Applicants: Pacific Gas and Electric Company.

Description: Petition for Declaratory Order of Pacific Gas and Electric Company.

Filed Date: 11/23/21.

Accession Number: 20211123-5232.

Comment Date: 5 p.m. ET 12/23/21.

Docket Numbers: EL22-17-000.

Applicants: National Grid.

Description: Petition for Declaratory Order Authorizing Abandonment Recovery of National Grid.

Filed Date: 11/19/21.

Accession Number: 20211119-5288.

Comment Date: 5 p.m. ET 12/20/21.

Take notice that the Commission received the following electric rate filings:

Docket Numbers: ER22-434-000.

Applicants: Altop Energy Trading LLC.

Description: Supplement to November 19, 2021 Altop Energy Trading LLC tariff filing.

Filed Date: 11/24/21.

Accession Number: 20211124-5194.

Comment Date: 5 p.m. ET 12/1/21.

Docket Numbers: ER22-483-000.

Applicants: NMRD Data Center III, LLC.

Description: § 205(d) Rate Filing: NMRD Data Center III Encino PPA to be effective 1/23/2022.

Filed Date: 11/24/21.

Accession Number: 20211124-5183.

Comment Date: 5 p.m. ET 12/15/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 26, 2021.
Debbie-Anne A. Reese,
Deputy Secretary.

[FR Doc. 2021-26190 Filed 12-1-21; 8:45 am]

BILLING CODE 6717-01-P